DEPARTMENT OF ENERGY

Federal Energy Regulatory Commission

[Project Nos. 2593-031; 2823-020]

Algonquin Power (Beaver Falls), LLC; Notice of Scoping Meetings and Environmental Site Review and Soliciting Scoping Comments

Take notice that the following hydroelectric applications have been filed with the Commission and are available for public inspection:

a. Type of Application: Subsequent Licenses.

b. Project Nos.: 2593-031 and 2823-020.

c. Date filed: December 30, 2015.

d. Applicant: Algonquin Power (Beaver Falls), LLC.

e. Name of Project: Upper Beaver Falls Hydroelectric Project and Lower Beaver Falls Hydroelectric Project.

f. Location: On the Beaver River in Lewis County, New York. The projects are not located on federal lands.

g. Filed Pursuant to: Federal Power Act 16 U.S.C. 791(a)-825(r).

h. Applicant Contact: Robert A. Gates, Executive Vice President, Eagle Creek Renewable Energy, 116 N. State Street, P.O. Box 167, Neshkoro, WI 54960-0167; (973) 998-8403; bob.gates@eaglecreekre.com.

i. FERC Contact: Andy Bernick, (202) 502-8660 or andrew.bernick@ferc.gov.

j. Deadline for filing scoping comments: January 12, 2017.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-2593-031 and P-2823-020.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. These applications are not ready for environmental analysis at this time.

l. The existing project works are as follows:

The Upper Beaver Falls Project consists of: (1) A 328-foot-long, 25-foot-high concrete gravity dam with an uncontrolled overflow spillway; (2) a 48-acre reservoir with a storage capacity of 800 acre-feet at elevation 799.4 feet North American Vertical Datum of 1988 (NAVD 88); (3) a 17-foot-high, 26.5-foot-wide, 27.5-foot-long intake structure with a steel trash rack with 2 5/8-inch clear spacing; (4) a 90-foot-long, 16-foot-wide, 8-foot-high concrete penstock; (5) a powerhouse containing one turbine-generator with a nameplate rating of 1,500 kilowatts (kW); (6) a tailrace excavated in the riverbed; (7) a 2,120-foot-long, 2.4-kilovolt (kV) overhead and underground transmission line connecting to an existing substation; and (8) other appurtenances. The project generates about 8,685 megawatt-hours (MWh) annually.

The Lower Beaver Falls Hydroelectric Project consists of: (1) A 400-foot-long concrete gravity dam with a maximum height of 14 feet, including: (i) A 240-foot-long non-overflow section containing an 8-foot-wide spillway topped with flashboards ranging from 6 to 8 inches in height and (ii) a 160-foot-long overflow section with an ice sluice opening; (2) a 4-acre reservoir with a storage capacity of 27.9 acre-feet at a normal elevation of 769.6 feet NAVD 88; (3) an intake structure with a steel trash rack with 1 3/4-inch clear spacing, integral with a powerhouse containing two 500-kW turbine and generator units; (4) a tailrace; (5) a 505-foot-long, 2.4-kV transmission line connected to the Upper Beaver Falls powerhouse; and (6) appurtenant facilities. The project generates about 5,617 MWh annually.

The Lower Beaver Falls Project is located approximately 600 feet downstream of the Upper Beaver Falls Project. The dams and existing project facilities for both projects are owned by the applicant. The applicant proposes no new project facilities or operational changes, but proposes that both projects be combined under a single license.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process: The Commission intends to prepare an environmental assessment (EA) on the projects in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Tuesday, December 13, 2016.

Time: 9:00 a.m.

Place: Croghan Volunteer Fire Department.

Address: 6860 Fire Hall Street, Croghan, New York.

Public Scoping Meeting

Date: Tuesday, December 13, 2016.

Time: 7:00 p.m.

Place: Croghan Volunteer Fire Department.

Address: 6860 Fire Hall Street, Croghan, New York.

Copies of the Scoping Document (SD1) outlining the subject areas to be addressed in the EA were distributed to the parties on the Commission's mailing list. Copies of the SD1 will be available at the scoping meeting or may be viewed on the web at http://www.ferc.gov using the “eLibrary” link (see item m above).

Environmental Site Review

The Applicant and FERC staff will conduct a project Environmental Site Review beginning at 1:00 p.m. on December 13, 2016. All interested individuals, organizations, and agencies are invited to attend. All participants should meet at the Upper Beaver Falls Project facility, located at 9692 New York State Route 126, Castorland, New York. All participants are responsible for their own transportation to the site and during the site visit. Anyone with questions about the Environmental Site Review should contact Mr. Jeff Kirch, Northern New York Regional Operator for Algonquin Power (Beaver Falls) LLC, at 315-783-5854 or Jeffrey.kirch@eaglecreekre.com.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the projects.

Individuals, organizations, and agencies with environmental expertise and concerns are encouraged to attend the meeting and to assist the staff in defining and clarifying the issues to be addressed in the EA.

Dated: November 9, 2016.
Kimberly D. Bose,
Secretary.

[FR Doc. 2016-27618 Filed 11-16-16; 8:45 am]

BILLING CODE 6717-01-P